DEPARTMENT OF THE TREASURY

Internal Revenue Service

Proposed Collection; Comment Request for Forms 990, 990 EZ SCH B (BR), (BR), 990-EZ SCH L (LP), 990-EZ, 990-PF, 990-SCH B, 990-C, 990-EZ, 990-EZ (BR), 990-N, OR 990-EZ (SCH A), 990-EZ (SCH C), 990-EZ (SCH E), 990-EZ (SCH G), 990-EZ (SCH L), 990-EZ (SCH N), 990-EZ (SCH N-1), 990-EZ (SCH O), 990-EZ(SCH O)(BR), 990-PF. 990-PF (BR), 990-SCH A (BR), 990-SCH D, 990-SCH D (BR), 990-SCH F, 990-SCH F-1, 990-SCH H, 990-SCH I, 990-SCH I (BR), 990-SCH I-1, 990-SCH J, 990-SCH J (BR), 990-SCH J-1, 990-SCH J-2, 990-SCH K, 990-SCH M, 990-SCH R, 990-SCH R (BR), 990-SCH R-1, 990-T, 990-T SCH M, 990-T (BR), 990-W, 1023, 990-(BR), 990-I, 1024, 1028, 1028-BR, 5578, 5884 C, 8038, 8038 B, 8038 CP, 8030 G, 8038 GC, 8038 R, 8038 T 8038 TC, 8328, 8718, 8282, 8453-E.O., 8453-X, 8868, 8868-(BR), 8870, 8871, 8872, 8879-E.O., 8886-T, 8899

AGENCY: Internal Revenue Service (IRS), Treasury.

ACTION: Notice and request for comments.

The Internal Revenue Service, as part of its continuing effort to reduce paperwork and respondent burden, invites the general public and other Federal agencies to take this opportunity to comment on proposed and continuing information collections, as required by the Paperwork Reduction Act of 1995 (PRA). This notice requests comments on all forms used by tax-exempt organizations:

Forms

• 990, 990(BR), 990 EZ SCH B (BR), 990-EZ SCH L (LP), 990-EZ, 990-PF, 990-SCH B, 990-C, 990-EZ, 990-EZ (BR), 990-N, OR 990-EZ (SCH A), 990-EZ (SCH C), 990-EZ (SCH E), 990-EZ (SCH G), 990-EZ (SCH L), 990-EZ (SCH N), 990-EZ (SCH N-1), 990-EZ (SCH O), 990-EZ(SCH O)(BR), 990-PF. 990-PF (BR), 990-SCH A (BR), 990-SCH D, 990-SCH D (BR), 990-SCH F, 990-SCH F-1, 990-SCH H, 990-SCH I, 990-SCH I (BR), 990-SCH I-1, 990-SCH J, 990-SCH J (BR), 990-SCH J-1, 990-SCH J-2, 990-SCH K, 990-SCH M, 990-SCH R, 990-SCH R (BR), 990-SCH R-1, 990-T, 990-T SCH M, 990-T (BR), 990-W, 1023, 990-(BR), 990-I, 1024, 1028, 1028-BR, 5578, 5884 C, 8038, 8038 B, 8038 CP, 8030 G, 8038 GC, 8038 R, 8038 T, 8038 TC, 8282, 8328, 8453-E.O., 8453-X, 8718, 8868, 8868-(BR), 8870, 8871, 8872, 8879-E.O., 8886-T, 8899 and all attachments to these forms (see the Appendix A to this notice). With this notice, the IRS is also announcing significant changes to (1) the manner in which tax forms used by tax-exempt organizations will be approved under the PRA and (2) its method of estimating the paperwork burden imposed on all tax-exempt organizations.

Related Internal Revenue Service and The Department of Treasury Guidance

EE-111-80 (TD 8019—Final) Public Inspection of Exempt Organization Return

TD 8033 (TEMP) Tax Exempt Entity Leasing (REG-209274-85)

Revenue Procedure 98-19, Exceptions to the notice and reporting requirements of section 6033(e)(1) and the tax imposed by section 6033(e)(2)

REG-246256-96 (Final TD 8978) Excise Taxes on Excess Benefit Transactions

T.D. 8861, Private Foundation Disclosure Rules

Notice 2006-109—Interim Guidance Regarding Supporting Organizations and Donor Advised Funds

Disclosure by taxable party to the tax-exempt entity

Reinstatement and Retroactive Reinstatement for Reasonable Cause (Rev. Proc. 2014-11) and Transitional Relief for Small Organizations (Notice 2011-43) under IRC § 6033(j)

TD 8086—Election for $10 Million Limitation on Exempt Small Issues of Industrial Development Bonds; Supplemental Capital Expenditure Statements (LR-185-84 Final)

Arbitrage Restrictions and Guidance on Issue Price Definition for Tax Exempt Bonds

TD 8712 (Final), Definition of Private Activity Bonds; TD 9741, General Allocation and Accounting Regulations Under Section 141; Remedial Actions for Tax-Exempt Bonds

FI-28-96 (Final) Arbitrage Restrictions on Tax-Exempt Bonds

REG-121475-03 (TD 9495—Final) Qualified Zone Academy Bonds: Obligations of States and Political Subdivisions

Notice 2009-26, Build America Bonds and Direct Payment Subsidy Implementation

Notice 2012-48: Tribal Economic Development Bonds

TD 7925 7952—Indian Tribal Governments Treated As States For Certain Purposes

Revenue Procedure 97-15, Section 103—Remedial Payment Closing Agreement Program

EE-12-78 Non-Bank Trustees

TD 9099—Disclosure of Relative Values of Optional Forms of Benefit

EE-147-87 (Final) Qualified Separate Lines of Business

TD 8619 (Final) (EE-43-92l) Direct Rollovers and 20-Percent Withholding Upon Eligible Rollover Distributions from Qualified Plans

PS-100-88(TD8540) (Final) Valuation Tables

Revenue Procedure 2017-4

TD 8769 (Final)—(REG-107644-97) Permitted Elimination of Pre-retirement Optional Forms of Benefit

Notice 97-45, Highly Compensated Employee Definition

Compensation Deferred Under Eligible Deferred Compensation Plans (TD 9075)

TD 8816 (Final) Roth IRAs

REG-108639-99 (Final) Retirement Plans; Cash or Deferred Arrangements Under Section 401(k) and Matching Contributions or Employee Contributions Under Section 401(m); TD 9169

Revenue Ruling 2000-35 Automatic Enrollment in Section 403(b) Plans

Notice 2002-27—IRA Required Minimum Distribution Reporting

TD 9142 (Final), Deemed IRAs in Qualified Retirement Plans (REG-157302-02)

REG-146459-05—TD 9324 (Final) Designated Roth Contributions Under Section 402A

TD 9467 (REG-139236-07) and Notice 2014-53

TD 9641—Suspension or Reduction of Safe Harbor Contributions (REG-115699-09) Waiver of 60-Day Rollover Requirement

TD 7898—Employers Qualified Educational Assistance Programs

TD 8864 (Final); EE-63-88 (Final and temp regulations) Taxation of Fringe Benefits and Exclusions From Gross Income for Certain Fringe Benefits; IA-140-86 (Temporary) Fringe Benefits

TD 8073 (Temporary Regulations)—Effective Dates and Other Issues Arising Under the Employee Benefit Provisions of the Tax Reform Act of 1984.

REG-209484-87 (TD 8814 final) Federal Insurance Contributions Act (FICA) Taxation of Amounts Under Employee Benefit Plans.

REG-164754-01 (FINAL) Split-Dollar Life Insurance Arrangements.

T.D. 9088, Compensatory Stock Options Under Section 482.

T.D. 9083—Golden Parachute Payments.

Revenue Procedure 2014-55, Election Procedures and Information Reporting with Respect to Interests in Certain Canadian Retirement Plans

Substitute Mortality Tables for Single Employer Defined Benefit Plans

T.D. 8802—Certain Asset Transfers to a Tax-Exempt Entity

REG-113572-99 (TD 8933) Qualified Transportation Fringe Benefits

Revenue Procedure 2016-1, Rulings and determination letters—26 CFR 601-.201

26 CFR 31.6001-1 Records in general; 26 CFR 31.6001-2 Additional Records under FICA; 26 CFR 31.6001-3, Additional records under Railroad Retirement Tax Act; 26 CFR 31.6001-5 Additional records

IA-44-94 (Final) Deductibility, Substantiation, and Disclosure of Certain Charitable Contributions

Notice 2005-41, Guidance Regarding Qualified Intellectual Property Contributions

De Minimis Error Safe Harbor to the I.R.C. §§ 6721 and 6722 Penalties

Substantiation of Charitable Contributions—TD 8002

Qualified Conservation Contributions

TD 7852—Registration Requirements with Respect to Debt Obligations (NPRM, LR-255-82)

Notice 2007-70—Charitable Contributions of Certain Motor Vehicles, Boats, and Airplanes. Reporting requirements under Sec. 170(f)(12)(D)

TD 8124—Time and Manner of Making Certain Elections Under the Tax Reform Act of 1986

EE-14-81 (NPRM) Deductions and Reductions in Earnings and Profits (or Accumulated Profits) With Respect to Certain Foreign Deferred Compensation Plans Maintained by Certain Foreign Corporations or

TD 9724—Summary of Benefits and Coverage Disclosures

TD 7845—Inspection of Applications for Tax Exemption and Applications for Determination Letters for Pension and Other Plans (Final)

REG-130477-00; REG-130481-00 (TD 8987—Final), Required Distributions From Retirement Plans

EE-175-86 (Final) Certain Cash or Deferred Arrangements and Employee and Matching Contributions under Employee Plans: REG-108639-99 (NPRM) Retirement Plans; Cash or Deferred Arrangements

Change in Minimum Funding Method (Rev. Proc. 2000-41)

REG-109481-99 (TD 9076—Final) Special Rules Under Section 417(a)(7) for Written Explanations Provided by Qualified Retirement Plans After Annuity Starting Dates

TD 9472 (Final)—Notice Requirements for Certain Pension Plan Amendments Significantly Reducing the Rate of Future Benefit Accrual

T.D. 9079—Ten or More Employer Plan Compliance Information

Waivers of Minimum Funding Standards—Revenue Procedure 2004-15

Election of Alternative Deficit Reduction Contribution and Plan Amendments

Revenue Procedure 2010-52, Extension of the Amortization Period for Plan Sponsor of a Multiemployer Pension Plan

Designated Roth Contributions to Cash or Deferred Arrangements Under Section 401(k)

Notice 2005-40, Election to Defer Net Experience Loss in a Multiemployer Plan

Notice 2006-107—Diversification Requirements for Qualified Defined Contribution Plans Holding Publicly Traded Employer Securities

Revised Regulations Concerning Section 403(b) Tax-Sheltered Annuity Contracts—TD 9340 (Final)

TD 9447 (Final) Automatic Contribution Arrangements.

NOT-2009-31—Election and Notice Procedures for Multiemployer Plans under Sections 204 and 205 of WRERA

Relief and Guidance on Corrections of Certain Failures of a Nonqualified Deferred Compensation Plan to Comply with § 409A(a)

Suspension of Benefits Under the Multiemployer Pension Reform Act of 2014; Administration of Multiemployer Plan Participant Vote

REG-209823-96 (TD 8791)—Guidance Regarding Charitable Remainder Trusts and Special Valuation Rules for Transfer of Interests in Trusts

DATES: Written comments should be received on or before October 22, 2018 to be assured of consideration.

ADDRESSES: Direct all written comments to Laurie Brimmer, Internal Revenue Service, Room 6526, 1111 Constitution Avenue NW, Washington, DC 20224.

Requests for additional information or copies of the form and instructions should be directed to Elaine Christophe, at Internal Revenue Service, Room 6526, 1111 Constitution Avenue NW, Washington, DC 20224, or through the internet, at Elaine,H,Christophe@irs.gov.

SUPPLEMENTARY INFORMATION:

Change in PRA Approval of Forms Used by Tax-Exempt Organizations

Under the PRA, OMB assigns a control number to each “collection of information” that it reviews and approves for use by an agency. A single information collection may consist of one or more forms, recordkeeping requirements, and/or third-party disclosure requirements. Under the PRA and OMB regulations, agencies have the discretion to seek separate OMB approvals for forms, recordkeeping requirements, and third-party reporting requirements or to combine any number of forms, recordkeeping requirements, and/or third-party disclosure requirements (usually related in subject matter) under one OMB Control Number. Agency decisions on whether to group individual requirements under a single OMB Control Number or to disaggregate them and request separate OMB Control Numbers are based largely on considerations of administrative practicality.

The PRA also requires agencies to estimate the burden for each collection of information. Accordingly, each OMB Control Number has an associated burden estimate. The burden estimates for each control number are displayed in (1) the PRA notices that accompany collections of information, (2) Federal Register notices such as this one, and (3) in OMB's database of approved information collections. If more than one form, recordkeeping requirement, and/or third-party disclosure requirement is approved under a single control number, then the burden estimate for that control number reflects the burden associated with all of the approved forms, recordkeeping requirements, and/or third-party disclosure requirements.

As described below under the heading “Taxpayer Burden Model,” the IRS's Taxpayer Burden Model (TBM) estimates of taxpayer burden are based on taxpayer characteristics and activities, taking into account, among other things, the forms and schedules used by these taxpayers and the recordkeeping and other activities needed to complete those forms. The expansion of the TBM to calculate the burden estimate for tax-exempt organizations represents the third phase of a long-term effort to improve the ability of IRS to measure the burden imposed on all groups of taxpayers by the federal tax system. While the TBM methodology provides a more accurate and comprehensive estimate of tax-exempt organization burden, it will not provide burden estimates on a form-by-form basis, as has been done under the previous methodology. When the prior model was developed in the mid-1980s, almost all tax returns were prepared manually, either by the taxpayer or a paid provider. In this context, it was determined that estimating burden on a form-by-form basis was an appropriate methodology. Today, over 90 percent of all tax-exempt organization tax returns are prepared using software or with preparer assistance. In this environment, a taxpayer-centric view of the tax compliance burden is more relevant.

Currently, there are 58 forms used primarily by tax-exempt organizations. These include Forms 990, 990(BR), 990 EZ SCH B (BR), 990-EZ SCH L (LP), 990-EZ, 990-PF, 990-SCH B, 990-C, 990-EZ, 990-EZ (BR), 990-N, OR 990-EZ (SCH A), 990-EZ (SCH C), 990-EZ (SCH E), 990-EZ (SCH G), 990-EZ (SCH L), 990-EZ (SCH N), 990-EZ (SCH N-1), 990-EZ (SCH O), 990-EZ(SCH O)(BR), 990-PF. 990-PF (BR), 990-SCH A (BR), 990-SCH D, 990-SCH D (BR), 990-SCH F, 990-SCH F-1, 990-SCH H, 990-SCH I, 990-SCH I (BR), 990-SCH I-1, 990-SCH J, 990-SCH J (BR), 990-SCH J-1, 990-SCH J-2, 990-SCH K, 990-SCH M, 990-SCH R, 990-SCH R (BR), 990-SCH R-1, 990-T, 990-T SCH M 990-T (BR), 990-W, 1023, 990- (BR), 990-I, 1024, 1028, 1028-BR, 5578, 5884 C, 8038, 8038 B, 8038 CP, 8030 G, 8038 GC, 8038 R, 8038 T 8038 TC, 8328 8718 8282 8453-E.O., 8453-X, 8868, 8868-(BR), 8870 8871, 8872, 8879-E.O., 8886-T, 8899 and their schedules and all the forms tax-exempt organizations attach to their tax returns (see the Appendix A to this notice). For most of these forms, IRS has in the past obtained separate OMB approvals under unique OMB Control Numbers and separate burden estimates.

The TBM estimates the aggregate burden imposed on tax-exempt organizations based upon their tax-related characteristics and activities. IRS therefore will seek OMB approval of all 58-tax-exempt organization-related tax forms as a single “collection of information.” The aggregate burden of these tax forms will be accounted for under OMB Control Number 1545-0047, which is currently assigned to Form 990 and its schedules. OMB Control Number 1545-0047 will be displayed on all tax-exempt organization tax forms and other information collections. As a result of this change, burden estimates for tax-exempt organizations will now be displayed differently in PRA Notices on tax forms and other information collections, and in Federal Register notices. This format for reporting burden has been used for individual taxpayers (OMB number 1545-0074) since 2005 and for business taxpayers (OMB number 1545-0123) since 2015.

Taxpayer Burden Model (TBM)

That Taxpayer Burden Model method of burden estimation replaces the Arthur D. Little (ADL) legacy burden model developed in the mid-1980s. Since the 1980s, improved technology and modeling sophistication have enabled the IRS to improve the burden estimates. The TBM provides taxpayers and the IRS with a more comprehensive understanding of the current levels of taxpayer burden. It reflects major changes over the past three decades in the way taxpayers prepare and file their returns. The TBM also represents a substantial step forward in the IRS's ability to assess likely impacts of administrative and legislative changes on tax compliance burden.

The TBM's approach to estimating tax compliance burden focuses on the characteristics and activities of taxpayers. Key determinants of tax compliance burden in the model are the type of entity, total assets, total receipts, and activities reported on the tax return (income, deductions, credits, etc.). In contrast, the previous estimates primarily focused on the length and complexity of each tax form. The changes between the ADL model estimates and the TBM estimates are due to the improved ability of the TBM to estimate burden and the expanded scope of what is included in the TBM. The transition to the TBM burden estimation methodology will create a one-time change in the estimate of burden levels that reflects the improved estimation methodology of the TBM. The differences in estimates between the models do not reflect any change in the actual burden experienced by taxpayers. Comparisons should not be made between these and the earlier published estimates, because the models measure burden in different ways.

Methodology

Burden is defined as the time and out-of-pocket costs incurred by taxpayers to comply with the federal tax system. As has been done for individual taxpayer burden since 2005 and business entities since 2015, both the time expended and the out-of-pocket costs for tax-exempt organization are estimated. The burden estimation methodology used data gathered from recent taxpayer burden surveys that ask for the time and out-of-pocket costs that taxpayers spend on pre-filing and filing activities. The methodology establishes econometric relationships between tax return characteristics and reported compliance costs. The methodology controls for the substitution of time and money by monetizing time and reporting total compliance costs in dollars. This methodology better reflects taxpayer compliance burden, because in a world of electronic tax preparation, time and out-of-pocket costs are governed by the information required rather than the form on which it is ultimately reported. Importantly, even where various tax-exempt organizations complete the same tax form lines, the TBM methodology differentiates the cost incurred to complete those forms based on characteristics of those taxpayers filing the forms. Key characteristics that serve as coefficients in the TBM are:

• Form type

• Total assets

• Total receipts

• Return complexity

For more information about tax compliance burden and the TBM, go to the article “Tax Compliance Burden” posted on the IRS website at https://www.irs.gov/pub/irs-soi/d13315.pdf.

Taxpayer Burden Estimates

The estimates are subject to change as new forms and data become available.

Proposed PRA Submission to OMB

Title: Tax-Exempt Organization Tax Compliance Burden.

OMB Number: 1545-0047.

Form Numbers: Forms 990, 990-EZ, 990-PF, 990-N, 990-T and all attachments to these forms (see the Appendix A to this notice).

Abstract: These forms are used by tax-exempt organizations to report their tax-compliance-related activity. The data is used to verify that the items reported on the forms are correct, and also for general statistics use.

Current Actions: The burden estimation methodology for tax-exempt organizations is being transitioned from the legacy ADL model to the Taxpayer Burden Model.

Type of Review: Revision of currently approved collections.

Estimates Total Time (Hours): 50,450,000.

Estimated Total Out-of-Pocket Costs: $1,297,300,000.

Estimated Total Monetized Burden: $3,594,400,000.

Affected Public: Tax Exempt Organizations.

Estimated Number of Respondents: 1,413,200.

Total Estimated Time: 50.5 million hours.

Estimated Time per Respondent: 35.7 hours.

Total Estimated Out-of-Pocket Costs: $1.30 billion.

Estimated Out-of-Pocket Cost per Respondent: $918.

Total Estimated Monetized Burden: $3.59 billion.

Estimated Total Monetized Burden per Respondent: $2,543.

Note: Amounts below are for FY2018. Reported time and cost burdens are national averages and do not necessarily reflect a “typical” case. Most taxpayers experience lower than average burden, with taxpayer burden varying considerably by taxpayer type. Detail may not add due to rounding.

Table 1—Fiscal Year 2018 Form 990 Series Tax Compliance Cost Estimates
| Type of return: Form 990 | Type of return: Form 990-EZ | Type of return: Form 990-PF | Type of return: Form 990-T | Type of return: Form 990-N
Projections of the Number of Returns to be Filed with IRS | 322,900 | 252,900 | 113,100 | 124,500 | 599,800
Estimates Average Total Time (Hours) | 85 | 45 | 47 | 40 | 2
Estimated Average Total Out-of-Pocket Costs | $2,400 | $500 | $1,800 | $1,300 | $10
Estimates Total Time (Hours) | 27,370,000 | 11,440,000 | 5,280,000 | 5,040,000 | 1,320,000
Estimated Total Out-of-Pocket Costs | $787,700,000 | $128,000,000 | $208,500,000 | $167,600,000 | $5,500,000
Note: Totals may not add due to rounding.

An agency may not conduct or sponsor, and a person is not required to respond to, a collection of information unless the collection of information displays a valid OMB Control Number.

Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: August 16, 2018.
Laurie Brimmer,
Senior Tax Analyst.

Appendix A

No. | Title | Description | OMB No.
990 |  | Return of Organization Exempt From Income Tax | 1545-0047
990 | & 990 EZ SCH B (BR) | Schedule of Contributors (Braille Version) | 1545-0047
990 | (BR) | Return of Organization Exempt From Income Tax (Braille Version) | 1545-0047
990 | 990-EZ SCH L (LP) | Transactions with Interested Persons (Large Print Version) | 1545-0047
990 | 990-EZ, 990-PF SCH B | Schedule of Contributors | 1545-0047
990 | C | Farmer's Cooperative Association Income Tax Return | 1545-0051
990 | EZ | Short Form Return of Organization Exempt From Income Tax | 1545-1150
990 | EZ (BR) | Short Form Return of Organization Exempt From Income Tax (Braille Version) | 1545-1150
990 | N | Electronic Notice (e-Postcard) for Tax-Exempt Organizations Not Required to File Form 990 or Form 990EZ | 1545-2085
990 | OR 990-EZ (SCH A) | Public Charity Status and Public Support | 1545-0047
990 | OR 990-EZ (SCH C) | Political Campaign and Lobbying Activities | 1545-0047
990 | OR 990-EZ (SCH E) | Schools | 1545-0047
990 | OR 990-EZ (SCH G) | Supplemental Information Regarding Fundraising or Gaming Activities | 1545-0047
990 | OR 990-EZ (SCH L) | Transactions with Interested Persons | 1545-0047
990 | OR 990-EZ (SCH N) | Liquidation, Termination, Dissolution or Significant Disposition of Assets | 1545-0047
990 | OR 990-EZ (SCH N-1) | Continuation Sheet for Form 990 (or 990-EZ) Schedule N | 1545-0047
990 | OR 990-EZ (SCH O) | Supplemental Information to Form 990 or 990-EZ | 1545-0047
990 | OR 990-EZ(SCH O)(BR) | Supplemental Information to Form 990 or 990-EZ (Braille Version) | 1545-0047
990 | PF | Return of Private Foundation or Section 4947(a)(1) Trust Treated as Private Foundation | 1545-0052
990 | PF (BR) | Return of Private Foundation or Section 4947(a)(1) Nonexempt Charitable Trust Treated as a Private Foundation (Braille Version) | 1545-0047
990 | SCH A (BR) | Public Charity Status and Public Support(Braille Version) | 1545-0047
990 | SCH D | Supplemental Financial Statements | 1545-0047
990 | SCH D (BR) | Supplemental Financial Statements (Braille Version) | 1545-0047
990 | SCH F | Statement of Activities Outside the United States | 1545-0047
990 | SCH F-1 | Continuation Sheet for Schedule F (Form 990) | 1545-0047
990 | SCH H | Hospitals | 1545-0047
990 | SCH I | Grants and Other Assistance to Organizations, Governments, and Individuals in the United States | 1545-0047
990 | SCH I (BR) | Grants and Other Assistance to Organizations, Governments, and Individuals in the U.S. (Braille Version) | 1545-0047
990 | SCH I-1 | Continuation Sheet for Schedule I | 1545-0047
990 | SCH J | Compensation Information | 1545-0047
990 | SCH J (BR) | Compensation Information (Braille Version) | 1545-0047
990 | SCH J-1 | Continuation Sheet for Schedule J (Form 990) | 1545-0047
990 | SCH J-2 | Continuation Sheet for Form 990 | 1545-0047
990 | SCH K | Supplemental Information on Tax-Exempt Bonds | 1545-0047
990 | SCH M | Noncash Contributions | 1545-0047
990 | SCH R | Related Organizations and Unrelated Partnerships | 1545-0047
990 | SCH R (BR) | Related Organizations and Unrelated Partnerships (Braille Version) | 1545-0047
990 | SCH R-1 | Continuation Sheet for Schedule R | 1545-0047
990 | T | Exempt Organization Business Income Tax Return | 1545-0687
990 | T (BR) | Exempt Organization Business Income Tax Return (Braille Version) | 1545-0687
990 | W | Estimated Tax on Unrelated Business Taxable Income for Tax-Exempt Organizations | 1545-0976
1023 |  | Application for Recognition of Exemption Under Section 501(c)(3) of the Internal Revenue Code | 1545-0056
1023 | (BR) | Application for Recognition of Exemption Under Section 501(c)(3) of the Internal Revenue Code (Braille Version) | 1545-0056
1023 | I | Application for Recognition of Exemption Under Section 501(c)(3) of the Internal Revenue Code (Interactive Version) | 1545-0056
1024 |  | Application for Recognition of Exemption Under Section 501(a) or for Determination Under Section 120 | 1545-0057
1028 |  | Application for Recognition of Exemption | 1545-0058
1028 | (BR) | Application for Recognition of Exemption (Braille Version) | 1545-0058
5578 |  | Annual Certification of Racial Nondiscrimination for a Private School Exempt From Federal Income Tax | 1545-0213
5884 | C | Credit Against Employment Tax for Tax-Exempt Employers Hiring Qualified Tax-Exempt Organizations Hiring Qualified Veterans | 1545-2226
8038 |  | Information Return for Tax-Exempt Private Activity Bond Issues | 1545-0720
8038 | B | Information Return for Build America Bonds and Recovery Zone Economic Development Bonds | 1545-2161
8038 | CP | Credit for Qualified Bonds Allowed to Issuer | 1545-2161
8038 | G | Information Return for Government Purpose Tax-Exempt Bond Issues | 1545-0720
8038 | GC | Consolidated Information Return for Small Tax-Exempt Government Bond Issues | 1545-0720
8038 | R | Request for Recovery of Overpayment Under Arbitrage Rebate Provisions | 1545-1750
8038 | T | Arbitrage Rebate and Penalty in Lieu of Arbitrage Rebate | 1545-1219
8038 | TC | Information Return for Tax Credit and Specified Tax Credit Bonds as the result of the new Hire bill | 1545-2160
8282 |  | Donee Information return | 1545-0908
8453 | EO | Exempt Organization Declaration & Signature for Electronic Filing | 1545-1879
8453 | X | Political Organization Declaration for Electronic Filing of Notice 527 Status | 1545-1693
8868 |  | Application for Extension of Time To File an Exempt Organization Return | 1545-1709
8868 | (BR) | Application for Extension of Time To File an Exempt Organization Return (Braille Version) | 1545-1709
8870 |  | Information Return for Transfer Associations | 1545-1702
8871 |  | Political Organization Notice of Section 527 Status | 1545-1693
8872 |  | Political Organization Report of Contributions and Expenditures | 1545-1696
8879 | EO | IRS e-file Signature Authorization for an Exempt Organization | 1545-1878
8886 | T | Disclosure by Tax-Exempt Entity Regarding Prohibited Tax Shelter Transaction | 1545-2078
8899 |  | Notice of Income from Donated Intellectual Property | 1545-1962

Appendix B

Title/description | OMB No.
EE-111-80 (TD 8019—Final) Public Inspection of Exempt Organization Return | 1545-0742
TD 8033 (TEMP) Tax Exempt Entity Leasing (REG-209274-85) | 1545-0923
Revenue Procedure 98-19, Exceptions to the notice and reporting requirements of section 6033(e)(1) and the tax imposed by section 6033(e)(2) | 1545-1589
REG-246256-96 (Final TD 8978) Excise Taxes on Excess Benefit Transactions | 1545-1623
T.D. 8861, Private Foundation Disclosure Rules | 1545-1655
Notice 2006-109—Interim Guidance Regarding Supporting Organizations and Donor Advised Funds | 1545-2050
Disclosure by taxable party to the tax-exempt entity | 1545-2079
Reinstatement and Retroactive Reinstatement for Reasonable Cause (Rev. Proc. 2014-11) and Transitional Relief for Small Organizations (Notice 2011-43) under IRC § 6033(j) | 1545-2206
TD 8086—Election for $10 Million Limitation on Exempt Small Issues of Industrial Development Bonds; Supplemental Capital Expenditure Statements (LR-185-84 Final) | 1545-0940
Arbitrage Restrictions and Guidance on Issue Price Definition for Tax Exempt Bonds | 1545-1347
TD 8712 (Final), Definition of Private Activity Bonds; TD 9741, General Allocation and Accounting Regulations Under Section 141; Remedial Actions for Tax-Exempt Bonds | 1545-1451
FI-28-96 (Final) Arbitrage Restrictions on Tax-Exempt Bonds | 1545-1490
REG-121475-03 (TD 9495-Final) Qualified Zone Academy Bonds: Obligations of States and Political Subdivisions | 1545-1908
Notice 2009-26, Build America Bonds and Direct Payment Subsidy Implementation | 1545-2143
Notice 2012-48: Tribal Economic Development Bonds | 1545-2233
TD 7925 7952—Indian Tribal Governments Treated As States For Certain Purposes | 1545-0823
Revenue Procedure 97-15, Section 103—Remedial Payment Closing Agreement Program | 1545-1528
EE-12-78 Non-Bank Trustees | 1545-0806
TD 9099—Disclosure of Relative Values of Optional Forms of Benefit | 1545-0928
EE-147-87 (Final) Qualified Separate Lines of Business | 1545-1221
TD 8619 (Final) (EE-43-92l) Direct Rollovers and 20-Percent Withholding Upon Eligible Rollover Distributions from Qualified Plans | 1545-1341
PS-100-88 (TD8540) (Final) Valuation Tables | 1545-1343
Revenue Procedure 2017-4 | 1545-1520
TD 8769 (Final)—(REG-107644-97) Permitted Elimination of Pre-retirement Optional Forms of Benefit | 1545-1545
Notice 97-45, Highly Compensated Employee Definition | 1545-1550
Compensation Deferred Under Eligible Deferred Compensation Plans (TD 9075) | 1545-1580
TD 8816 (Final) Roth IRAs | 1545-1616
REG-108639-99 (Final) Retirement Plans; Cash or Deferred Arrangements Under Section 401(k) and Matching Contributions or Employee Contributions Under Section 401(m); TD 9169 | 1545-1669
Revenue Ruling 2000-35 Automatic Enrollment in Section 403(b) Plans | 1545-1694
Notice 2002-27—IRA Required Minimum Distribution Reporting | 1545-1779
TD 9142 (Final), Deemed IRAs in Qualified Retirement Plans (REG-157302-02) | 1545-1841
REG-146459-05—TD 9324 (Final) Designated Roth Contributions Under Section 402A | 1545-1992
TD 9467 (REG-139236-07) and Notice 2014-53 | 1545-2095
TD 9641—Suspension or Reduction of Safe Harbor Contributions (REG-115699-09) | 1545-2191
Waiver of 60-Day Rollover Requirement | 1545-2269
TD 7898—Employers Qualified Educational Assistance Programs | 1545-0768
TD 8864 (Final); EE-63-88 (Final and temp regulations) Taxation of Fringe Benefits and Exclusions From Gross Income for Certain Fringe Benefits; IA-140-86 (Temporary) Fringe Benefits | 1545-0771
TD 8073 (Temporary Regulations)—Effective Dates and Other Issues Arising Under the Employee Benefit Provisions of the Tax Reform Act of 1984 | 1545-0916
REG-209484-87 (TD 8814 final) Federal Insurance Contributions Act (FICA) Taxation of Amounts Under Employee Benefit Plans | 1545-1643
REG-164754-01 (FINAL) Split-Dollar Life Insurance Arrangements | 1545-1792
T.D. 9088, Compensatory Stock Options Under Section 482 | 1545-1794
T.D. 9083—Golden Parachute Payments | 1545-1851
Revenue Procedure 2014-55, Election Procedures and Information Reporting with Respect to Interests in Certain Canadian Retirement Plans | 1545-1773
Substitute Mortality Tables for Single Employer Defined Benefit Plans | 1545-2073
T.D. 8802—Certain Asset Transfers to a Tax-Exempt Entity | 1545-1633
REG-113572-99 (TD 8933) Qualified Transportation Fringe Benefits | 1545-1676
Revenue Procedure 2016—1, Rulings and determination letters—26 CFR 601-.201 | 1545-1522
26 CFR 31.6001-1 Records in general; 26 CFR 31.6001-2 Additional Records under FICA; 26 CFR 31.6001-3, Additional records under Railroad Retirement Tax Act; 26 CFR 31.6001-5 Additional records | 1545-0798
IA-44-94 (Final) Deductibility, Substantiation, and Disclosure of Certain Charitable Contributions | 1545-1464
Notice 2005-41, Guidance Regarding Qualified Intellectual Property Contributions | 1545-1937
De Minimis Error Safe Harbor to the I.R.C. §§ 6721 and 6722 Penalties | 1545-2270
Substantiation of Charitable Contributions—TD 8002 | 1545-0754
Qualified Conservation Contributions | 1545-0763
TD 7852—Registration Requirements with Respect to Debt Obligations (NPRM, LR-255-82) | 1545-0945
Notice 2007-70—Charitable Contributions of Certain Motor Vehicles, Boats, and Airplanes. Reporting requirements under Sec. 170(f)(12)(D) | 1545-1980
TD 8124—Time and Manner of Making Certain Elections Under the Tax Reform Act of 1986 | 1545-0982
EE-14-81 (NPRM) Deductions and Reductions in Earnings and Profits (or Accumulated Profits) With Respect to Certain Foreign Deferred Compensation Plans Maintained by Certain Foreign Corporations or | 1545-1393
TD 9724—Summary of Benefits and Coverage Disclosures | 1545-2229
TD 7845—Inspection of Applications for Tax Exemption and Applications for Determination Letters for Pension and Other Plans (Final) | 1545-0817
REG-130477-00; REG-130481-00 (TD 8987 -Final), Required Distributions From Retirement Plans | 1545-0996
EE-175-86 (Final) Certain Cash or Deferred Arrangements and Employee and Matching Contributions under Employee Plans: REG—108639-99 (NPRM) Retirement Plans; Cash or Deferred Arrangements | 1545-1069
Change in Minimum Funding Method (Rev. Proc. 2000-41) | 1545-1704
REG-109481-99 (TD 9076—Final) Special Rules Under Section 417(a)(7) for Written Explanations Provided by Qualified Retirement Plans After Annuity Starting Dates | 1545-1724
TD 9472 (Final)—Notice Requirements for Certain Pension Plan Amendments Significantly Reducing the Rate of Future Benefit Accrual | 1545-1780
T.D. 9079—Ten or More Employer Plan Compliance Information | 1545-1795
Waivers of Minimum Funding Standards—Revenue Procedure 2004-15 | 1545-1873
Election of Alternative Deficit Reduction Contribution and Plan Amendments | 1545-1883
Revenue Procedure 2010-52, Extension of the Amortization Period for Plan Sponsor of a Multiemployer Pension Plan | 1545-1890
Designated Roth Contributions to Cash or Deferred Arrangements Under Section 401(k) | 1545-1931
Notice 2005-40, Election to Defer Net Experience Loss in a Multiemployer Plan | 1545-1935
Notice 2006-107—Diversification Requirements for Qualified Defined Contribution Plans Holding Publicly Traded Employer Securities | 1545-2049
Revised Regulations Concerning Section 403(b) Tax-Sheltered Annuity Contracts—TD 9340 (Final) | 1545-2068
TD 9447 (Final) Automatic Contribution Arrangements. | 1545-2135
NOT-2009-31—Election and Notice Procedures for Multiemployer Plans under Sections 204 and 205 of WRERA | 1545-2141
Relief and Guidance on Corrections of Certain Failures of a Nonqualified Deferred Compensation Plan to Comply with § 409A(a) | 1545-2164
Suspension of Benefits Under the Multiemployer Pension Reform Act of 2014; Administration of Multiemployer Plan Participant Vote | 1545-2260
REG-209823-96 (TD 8791)—Guidance Regarding Charitable Remainder Trusts and Special Valuation Rules for Transfer of Interests in Trusts | 1545-1536

[FR Doc. 2018-18135 Filed 8-21-18; 8:45 am]

BILLING CODE 4830-01-P